DEPARTMENT OF AGRICULTURE

Forest Service

Tuolumne County Resource Advisory Committee

AGENCY: Forest Service, USDA.

ACTION: Notice of meeting.

SUMMARY: The Tuolumne County Resource Advisory Committee (RAC) will meet on May 15, 2006 at the City of Sonora Fire Department, in Sonora, California. The primary purpose of the meeting is to review new project proposals. The committee will also review requests for grant extensions and/or changing the focus of approved projects.

DATES: The meeting will be held May 15, 2006, from 12 p.m. to 3 p.m.

ADDRESSES: The meeting will be held at the City of Sonora Fire Department located at 201 South Shepherd Street, in Sonora, California (CA 95370).

FOR FURTHER INFORMATION CONTACT: Pat Kaunert, Committee Coordinator, USDA, Stanislaus National Forest, 19777 Greenley Road, Sonora, CA 95370, (209) 532-3671; E-mail pkaunert@fs.fed.us.

SUPPLEMENTARY INFORMATION: Agenda items include: (1) Review requests for grant extensions and/or changing the focus of previously submitted projects and consider for approval; (2) Review new project proposals; (3) Public comment. This meeting is open to the public.

Dated: April 17, 2006.
Tom Quinn,
Forest Supervisor.

[FR Doc. 06-3840 Filed 4-21-06; 8:45 am]

BILLING CODE 3410-ED-M